DEPARTMENT OF HEALTH AND HUMAN SERVICES

Centers for Disease Control and Prevention

[Program Announcement 02079]

Alaska Anemia Intervention and Treatment Program; Notice of Award of Funds

A. Purpose

The Centers for Disease Control and Prevention (CDC) announces the award of fiscal year (FY) 2002 funds for a grant program for Alaska Anemia Intervention and Treatment.

The purpose of the program is to reduce iron deficiency anemia rates of Alaska Native children in the Yukon-Kuskokwim Delta and Bristol Bay regions of Southwest Alaska, focusing on the potential relationship between Helicobacter pylori infection and iron deficiency anemia. This program addresses the “Healthy People 2010” focus areas Maternal, Infant, and Child Health and Immunization and Infectious Diseases.

B. Eligible Applicants

Assistance is provided only to the Alaska Department of Health and Social Services. No other applications were solicited. The House of Representatives Conference Report accompanying the Departments of Labor, Health and Human Services, and Education and Related Agencies Appropriation Bill ending September 30, 2002, and For Other Purposes (H.R. 3061, 107th Congress), recognized the unique qualifications of the Alaska Department of Health and Social Services for carrying out the activities specified in this grant (H.R. Rep. 107-342).

A. Funds

Approximately $494,494 is being awarded in FY 2002. It is expected that the award will begin on or about August 1, 2002, and will be made for a 12-month budget period within a one year project period.

D. Where To Obtain Additional Information

Business management technical assistance may be obtained from: Sharon Robertson, Grants Management Specialist, Procurement and Grants Office, Centers for Disease Control and Prevention, 2920 Brandywine Road, Room 3000, Atlanta, GA 30341-4146, Telephone number: 770-488-2748, Email address: sqr2@cdc.gov.

For program technical assistance, contact: Michael Klatt, Associate Director for Management & Operations, Arctic Investigations Program, National Center For Infectious Diseases, Centers for Disease Control and Prevention, 4055 Tudor Centre Drive, Anchorage, AK 99508, Telephone number: 907-729-3406, Email address: mlk2@cdc.gov.

Dated: August 8, 2002.
Sandra R. Manning,
Director, Procurement and Grants Office, Centers for Disease Control and Prevention.

[FR Doc. 02-20811 Filed 8-15-02; 8:45 am]

BILLING CODE 4163-18-P